Title 3—

The President

Proclamation 9152 of August 8, 2014

National Health Center Week, 2014

By the President of the United States of America

A Proclamation

In the United States of America, no one should have to live in poverty just because they get sick. Families deserve quality, affordable health care and the peace of mind that comes with it—regardless of who they are, where they live, or what language they speak. Today, nearly 1,300 health centers provide primary care and preventive services at over 9,000 locations across our country. During National Health Center Week, we acknowledge health centers' vital role, and we salute the professionals who work long hours to deliver these essential services.

In small towns and big cities, health centers serve as a trusted network, connecting patients with community resources. Nearly 5 million people received enrollment assistance at their local health center to help them access coverage through the Affordable Care Act. Many of the newly insured—who for so long were priced out of the market or denied coverage because of a pre-existing condition—will have the opportunity to receive their first covered checkup at a community health center. With more Americans getting health insurance, the Affordable Care Act has made substantial investments in health centers so they can open their doors to record numbers of patients. Earlier this year, my Administration announced new funding to help our Nation's health centers expand their hours, offer additional services, and hire more medical providers.

Health centers emphasize education and healthy lifestyles, and they help reduce racial and ethnic disparities in care. They lift up families and create jobs that power local economies. By encouraging regular checkups and routine screenings, health center staff help patients get timely care and reduce the need for emergency treatment. Americans can find a health center near them by using the “Find a Health Center” tool at www.HRSA.gov.

What started as an experiment to expand the promise of health security today delivers quality care across America—at prices people can afford, with the dignity and respect they deserve. This week, we recognize the importance of health centers and the critical support they provide to communities that need it most. Let us celebrate the progress health centers have helped us achieve and build on this foundation as we work to expand access to affordable care.

NOW, THEREFORE, I, BARACK OBAMA, President of the United States of America, by virtue of the authority vested in me by the Constitution and the laws of the United States, do hereby proclaim the week of August 10 through August 16, 2014, as National Health Center Week. I encourage all Americans to celebrate this week by visiting their local health center, meeting health center providers, and exploring the programs they offer to help keep families healthy.

IN WITNESS WHEREOF, I have hereunto set my hand this eighth day of August, in the year of our Lord two thousand fourteen, and of the Independence of the United States of America the two hundred and thirty-ninth.

[FR Doc. 2014-19346

Filed 8-12-14; 11:15 am]

Billing code 3295-F4